DEPARTMENT OF ENERGY

Federal Energy Regulatory Commission

Notice of Effectiveness Of Exempt Wholesale Generator Status

Jumbo Hill Wind Project, LLC | [EG20-58-000]
East Fork Wind Project, LLC | [EG20-59-000]
Wilton Wind Energy I, LLC | [EG20-60-000]

Take notice that during the month of February 2020, the status of the above-captioned entities as Exempt Wholesale Generators became effective by operation of the Commission's regulations. 18 CFR 366.7(a) (2019).

Dated: March 4, 2020.
Nathaniel J. Davis, Sr.,
Deputy Secretary.

[FR Doc. 2020-04962 Filed 3-10-20; 8:45 am]

BILLING CODE 6717-01-P